DEPARTMENT OF HEALTH AND HUMAN SERVICES

Food and Drug Administration

Pulmonary-Allergy Drugs Advisory Committee; Cancellation

AGENCY: Food and Drug Administration, HHS.

ACTION: Notice.

SUMMARY: The Food and Drug Administration (FDA) is canceling the meeting of the Pulmonary-Allergy Drugs Advisory Committee scheduled for December 20, 2002. This meeting was announced in the Federal Register of November 13, 2002 (67 FR 68878).

FOR FURTHER INFORMATION CONTACT: Kimberly L. Topper, Center for Drug Evaluation and Research (HFD-21), Food and Drug Administration, 5600 Fishers Lane (for express delivery, 5630 Fishers Lane, rm. 1093), Rockville, MD 20857, 301-827-7001, FAX 301-827-6776, or e-mail: topperk@cder.fda.gov, or FDA Advisory Committee Information Line, 1-800-741-8138 (301-443-0572 in the Washington, DC area), code 12545.

Dated: December 16, 2002.
Linda Arey Skladany,
Associate Commissioner for External Relations.

[FR Doc. 02-32157 Filed 12-17-02; 3:05 pm]

BILLING CODE 4160-01-S